DEPARTMENT OF JUSTICE

Office of Justice Programs

[OJP (OVW) Docket No. 1398]

Meeting of the National Advisory Committee on Violence Against Women

AGENCY: Office on Violence Against Women, Justice.

ACTION: Notice of meeting.

SUMMARY: This notice sets forth the schedule and proposed agenda of a forthcoming public meeting of the National Advisory Committee on Violence Against Women (hereinafter “the Committee”).

DATES: The meeting will take place on April 15, 2004, from 9 a.m. to 5 p.m., and on April 16, 2004, from 9 a.m. to 2 p.m.

ADDRESS: The meeting will take place at the St. Gregory Hotel, 2033 M Street, NW., Washington, DC, 20036.

FOR FURTHER INFORMATION CONTACT: Jana Sinclair White, The National Advisory Committee on Violence Against Women, 810 Seventh Street, NW., Washington, DC 20531. Telephone: (202) 353-4343. E-mail: Whitej@ojp.usdoj.gov. Fax: (202) 307-3911. You may view the Committee's Web site at: http://www.ojp.usdoj.gov/vawo/nac/welcome.html.

SUPPLEMENTARY INFORMATION: The Committee is chartered by the Attorney General, and co-chaired by the Attorney General and the Secretary of Health and Human Services (the Secretary), to provide the Attorney General and the Secretary with practical and general policy advice concerning implementation of the Violence Against Women Act of 1994, the Violence Against Women Act of 2000, and related laws, and will assist in the efforts of the Department of Justice and the Department of Health and Human Services to combat violence against women, especially domestic violence, sexual assault, and stalking.

In addition, because violence is increasingly recognized as a public health problem of staggering human cost, the Committee will bring national attention to the problem of violence against women and increase public awareness of the need for prevention and enhanced victim services.

This meeting will primarily focus on the Committee's work; there will, however, be an opportunity for public comment on the Committee's role in providing general policy guidance on implementation of the Violence Against Women Act of 1994, the Violence Against Women Act of 2000, and related legislation.

Meeting Format

This meeting will be held according to the following schedule:

1. Date: Thursday, April 15, 2004.

Time: 9 a.m-5 p.m.; including breaks and a working lunch.

2. Date: Friday, April 16, 2004.

Time: 9 a.m.-2 p.m., including breaks and a working lunch.

The meeting on April 15, 2004 will begin with consideration of the draft report prepared by the drafting subcommittee of the Advisory Committee. Time will be reserved for comments from the public, beginning at 11:30 a.m. and ending at 12 noon. See the section below on Reserving Time for Public Comment, for information on how to reserve time on the agenda.

The meeting scheduled for April 16, 2004, will also begin with consideration of the draft report prepared by the drafting subcommittee of the Advisory Committee.

Attending the Meeting

The meeting will be open to the public. Registrations for public attendance will be accepted on a space-available basis. Members of the public who wish to attend must register at least six (6) days in advance of the meeting by contacting Jana Sinclair White at the e-mail address or fax number listed above. Access to the meeting will not be allowed without registration, and all attendees will be required to sign in at the meeting registration desk. Please bring photo identification and allow extra time prior to the meeting.

Individuals who will need special accommodations for a disability in order to attend the meetings should notify Jana Sinclair White at the above e-mail address or by fax, no later than April 9, 2004. We will attempt to meet requests after this date, but cannot guarantee availability of the requested accommodation. The meeting site is accessible to individuals with disabilities.

Submitting Written Comments

Interested parties are invited to submit written comments to the Committee, by April 9, 2004, by e-mail to whitej@ojp.usdoj.gov; or by fax on (202) 307-3911.

Reserving Time for Public Comment

If you are interested in participating during the public comment period of the meeting, on the implementation of the Violence Against Women Act of 1994, and the Violence Against Women Act of 2000, you are requested to reserve time on the agenda by contacting the Office on Violence Against Women, U.S. Department of Justice, by e-mail or fax. Please include your name, the organization you represent, if appropriate, and a brief description of the issue you would like to present. Participants will be allowed approximately 3 to 5 minutes to present their comments, depending on the number of individuals who reserve time on the agenda. Participants are also encouraged to submit two written copies of their comments at the meeting.

Given the expected number of individuals interested in providing comments at the meetings, reservations for presenting comments should be made as soon as possible. Persons who are unable to obtain reservations to speak during the meetings are encouraged to submit written comments, which will be accepted at the meeting site or may be e-mailed to the Committee at the e-mail address listed under the section on Submitting Written Comments.

Notice of this meeting is required under section 10(a)(2) of the Federal Advisory Committee Act.

Diane M. Stuart,
Director, Office on Violence Against Women.

[FR Doc. 04-7565 Filed 4-1-04; 8:45 am]

BILLING CODE 4410-18-P